DEPARTMENT OF AGRICULTURE

Food and Nutrition Service

7 CFR Part 253

[FNS-2011-0036]

RIN 0584-AE05

Food Distribution Program on Indian Reservations: Income Deductions and Resource Eligibility; Approval of Information Collection Request

AGENCY: Food and Nutrition Service, USDA.

ACTION: Final rule; notice of approval of Information Collection Request (ICR).

SUMMARY: The final rule entitled Food Distribution Program on Indian Reservations: Income Deductions and Resource Eligibility was published on August 27, 2013. The Office of Management and Budget cleared the associated information collection requirements (ICR) on September 26, 2013. This document announces approval of the ICR.

DATES: The ICR associated with the final rule published in the Federal Register on August 27, 2013, at 78 FR 52827, was approved by OMB on September 26, 2013, under OMB Control Number 0584-0293.

FOR FURTHER INFORMATION CONTACT: Dana Rasmussen, Chief, Policy Branch, Food Distribution Division, Food and Nutrition Service, USDA, 3101 Park Center Drive, Room 506, Alexandria, Virginia 22302, (703) 305-2662, OR Dana.Rasmussen@fns.usda.gov.

Dated: December 24, 2013.
Yvette S. Jackson,
Acting Administrator, Food and Nutrition Service.

[FR Doc. 2013-31351 Filed 12-30-13; 8:45 am]

BILLING CODE 3410-30-P